DEPARTMENT OF DEFENSE

Office of the Secretary

Defense Advisory Committee on Military Personnel Testing

AGENCY: DoD.

ACTION: Meeting Notice.

SUMMARY: Under the provisions of the Federal Advisory Committee Act of 1972 (5 U.S.C., Appendix, as amended), the Government in the Sunshine Act of 1976 (5 U.S.C. 552b, as amended), and 41 CFR 102-3.150, the Department of Defense announces that the following Federal advisory committee meeting will take place:

1. Name of Committee: Defense Advisory Committee on Military Personnel Testing.

2. Date: Wednesday, March 19, 2008 and Thursday, March 20, 2008.

3. Time: From 8:30 a.m. to 4 p.m. on Wednesday and 8:30 to Noon on Thursday.

4. Location: The meeting will be held at Le Pavillon Hotel, 833 Poydras Street, New Orleans, LA 70112.

5. Purpose of the Meeting: The purpose of the meeting is to review planned changes and progress in developing computerized and paper-and-pencil enlistment tests.

6. Agenda: The agenda includes an overview of current enlistment test development timelines and planned research for the next three years. In addition, the recently completed Initial Operational Test and Evaluation results for new test forms will be presented to the Committee for their review and implementation recommendations.

7. Public's Accessibility to the Meeting: Pursuant to 5 U.S.C. 552b and 41 CFR 102-3.140 through 102-3.165, and the availability of space, this meeting is open to the public.

8. Committee's Designated Federal Officer or Point of Contact: Dr. Jane M. Arabian, Assistant Director, Accession Policy, Office of the Under Secretary of Defense (Personnel and Readiness), Room 2B271, The Pentagon, Washington, DC 20301-4000, telephone (703) 697-9271.

SUPPLEMENTARY INFORMATION: Persons desiring to make oral presentations or submit written statements for consideration at the Committee meeting must contact Dr. Jane M. Arabian at the address or telephone number above no later than March 16, 2008.

FOR FURTHER INFORMATION CONTACT: Dr. Jane Arabian, 703-697-9271.

Dated: February 25, 2008.
L.M. Bynum,
Alternate OSD Federal Register, Liaison Officer, Department of Defense.

[FR Doc. E8-3907 Filed 2-28-08; 8:45 am]

BILLING CODE 5001-06-P